DEPARTMENT OF COMMERCE

National Oceanic and Atmospheric Administration

RIN 0648-XA88

Marine Mammals; File No. 1034-1685

AGENCY: National Marine Fisheries Service (NMFS), National Oceanic and Atmospheric Administration (NOAA), Commerce.

ACTION: Notice; issuance of permit amendment.

SUMMARY: Notice is hereby given that Dr. Markus Horning has been issued an amendment to scientific research Permit No. 1034-1685-01.

ADDRESSES: The amendment and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Amy Sloan or Jaclyn Daly, (301)713-2289.

SUPPLEMENTARY INFORMATION: On June 20, 2007, notice was published in the Federal Register (72 FR 33981) that an amendment to Permit No. 1034-1685-01 had been requested by the above-named individual. The requested amendment has been granted under the authority of the Marine Mammal Protection Act of 1972, as amended (16 U.S.C. 1361 et seq.) and the regulations governing the taking and importing of marine mammals (50 CFR part 216).

Permit No. 1034-1685-01, issued on November 12, 2004 (72 FR 69585), authorized the permit holder to surgically implant transmitters, attach tags, collect blood, and perform blubber biopsy and ultrasound and bioelectrical impedance analysis on up to 30 California sea lions (Zalophus californianus) undergoing rehabilitation at The Marine Mammal Center (TMMC). In addition, the permit authorized intramuscular injections of adrenocorticotropic hormone (ACTH), pre-and post blood collection under anesthesia, and fecal sampling for up to 6 California sea lions at TMMC. The amended Permit No. 1034-1685-02 authorizes the permit holder to increase the number of California sea lions at The Marine Mammal Center that receive ACTH injections to 12 animals and inject 6 animals with a sterile saline solution as a control group. In addition, a new Co-investigator has been added to the permit.

In compliance with the National Environmental Policy Act of 1969 (42 U.S.C. 4321 et seq.), a final determination has been made that the activity proposed is categorically excluded from the requirement to prepare an environmental assessment or environmental impact statement.

Dated: August 28, 2007.
Tammy C. Adams,
Acting Chief, Permits, Conservation and Education Division, Office of Protected Resources, National Marine Fisheries Service.

[FR Doc. E7-17512 Filed 9-4-07; 8:45 am]

BILLING CODE 3510-22-S